DEPARTMENT OF HOMELAND SECURITY

Federal Emergency Management Agency

[Docket ID FEMA-2013-0002]; [Internal Agency Docket No. FEMA-B-1340]

Proposed Flood Hazard Determinations for Kandiyohi County, Minnesota, and Incorporated Areas

AGENCY: Federal Emergency Management Agency, DHS.

ACTION: Notice; withdrawal.

SUMMARY: The Federal Emergency Management Agency (FEMA) is withdrawing its notice concerning proposed flood hazard determinations, which may include the addition or modification of any Base Flood Elevation, base flood depth, Special Flood Hazard Area boundary or zone designation, or regulatory floodway on the Flood Insurance Rate Maps, and where applicable, in the supporting Flood Insurance Study reports for Kandiyohi County, Minnesota, and Incorporated Areas.

DATES: As of January 17, 2014, the notice published August 9, 2013, at 78 FR 48701, is withdrawn.

ADDRESSES: You may submit comments, identified by Docket No. FEMA-B-1340, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On August 9, 2013, FEMA published a notice at 78 FR 48701, proposing flood hazard determinations in Kandiyohi County, Minnesota. FEMA is withdrawing the notice.

Authority: 42 U.S.C. 4104; 44 CFR 67.4.

Dated: December 18, 2013.
Roy E. Wright,
Deputy Associate Administrator for Mitigation, Department of Homeland Security, Federal Emergency Management Agency.

[FR Doc. 2014-00063 Filed 1-16-14; 8:45 am]

BILLING CODE 9110-12-P